FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 011794-014.

Title: COSCON/KL/YMUK/Hanjin Worldwide Slot Allocation & Sailing Agreement.

Parties: COSCO Container Lines Company, Limited; Hanjin Shipping Co., Ltd.; Kawasaki Kisen Kaisha, Ltd.; and Yangming (UK) Ltd.

Filing Party: Robert B. Yoshitomi, Esq.; Nixon Peabody LLP; 555 West Fifth Street, 46th Floor; Los Angeles, CA 90013.

Synopsis: The amendment updates references to EU law and permits less than the full membership to discuss and agree on matters authorized by the Agreement.

By Order of the Federal Maritime Commission.
Dated: August 27, 2010.
Rachel Dickon,
Assistant Secretary.

[FR Doc. 2010-21883 Filed 8-31-10; 8:45 am]

BILLING CODE 6730-01-P